DEPARTMENT OF LABOR

Employment and Training Administration

[TA-W-63,095]

Western Union Financial Services, Inc. Bridgeton, MO; Notice of Negative Determination Regarding Application for Reconsideration

By application dated May 15, 2008, the petitioner requested administrative reconsideration of the Department's negative determination regarding eligibility to apply for Trade Adjustment Assistance (TAA) and Alternative Trade Adjustment Assistance (ATAA), applicable to workers and former workers of the subject firm. The denial notice was signed on April 10, 2008 and published in the Federal Register on April 23, 2008 (73 FR 21992).

The request for reconsideration also includes workers of Western Union Financial Services, Inc., St. Charles, Missouri. The initial petition and consequent determination did not include workers of the above mentioned location. If the petitioner wishes the Department to consider TAA eligibility for workers of Western Union Financial Services, Inc. in St. Charles, Missouri, a new petition applicable to these workers should be filed.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative TAA determination issued by the Department for workers of Western Union Financial Services, Inc., Bridgeton, Missouri was based on the finding that the worker group does not produce an article within the meaning of Section 222 of the Trade Act of 1974. The investigation revealed that workers of the subject firm are engaged in call center services. The investigation further revealed that no production of article(s) occurred within the firm or appropriate subdivision within the Western Union Financial Services, Inc. during the relevant time period.

The petitioner in the request for reconsideration contends that the Department erred in its interpretation of the work performed by the workers of the subject firm. The petitioner states that the workers of the subject firm “are customer service representatives picking up telephone calls from customers wishing to send money orders to recipients either in the United States or overseas”. The petitioner also states that “the article produced domestically in this case is the money order” generated after obtaining various financial information about customer's credit history. The petitioner alleges that the money order, “consisting of tangible cash at the receiving end of the order” is a product just as “an article or piece of clothing”, therefore, workers of the subject firm should be considered as engaged in production of articles.

The investigation revealed that Western Union is a global leader in money transfer services, offering the ability to send money to various locations, including numerous foreign countries and territories. No articles are produced within Western Union. The workers of Western Union Financial Services, Inc., Bridgeton, Missouri provide customer service support to Western Union customers and agents. These functions, as described above, are not considered production of an article within the meaning of Section 222 of the Trade Act and while the provision of services may result in printed material, it is incidental to the provision of these services. Money order is a document used by the subject firm as incidental to money transfer services provided by the subject firm. No production took place at the subject facility nor did the workers support production of an article at any domestic affiliated location during the relevant period.

The petitioner also alleges that job functions have been shifted from the subject firm overseas.

The allegation of a shift to another country might be relevant if it was determined that workers of the subject firm produced an article. However, the investigation determined that workers of Western Union Financial Services, Inc., Bridgeton, Missouri do not produce an article within the meaning of Section 222 of the Trade Act of 1974.

Conclusion

After review of the application and investigative findings, I conclude that there has been no error or misinterpretation of the law or of the facts which would justify reconsideration of the Department of Labor's prior decision. Accordingly, the application is denied.

Signed in Washington, DC, this 25th day of June, 2008.
Elliott S. Kushner,
Certifying Officer, Division of Trade Adjustment Assistance.

[FR Doc. E8-15864 Filed 7-11-08; 8:45 am]

BILLING CODE 4510-FN-P